DEPARTMENT OF TRANSPORTATION

Federal Aviation Administration

[Summary Notice No. PE-2002-26]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR 11.85 and 11.91.

Issued in Washington, DC, on March 28, 2002.
Donald P. Byrne,
Assistant Chief Counsel for Regulations.

Dispositions of Petitions

Docket No.: FAA-2002-11549.

Petitioner: Mitsubishi Heavy Industries, Ltd.

Section of 14 CFR Affected: 14 CFR 145.47(b).

Description of Relief Sought/Disposition: To permit Mitsubishi to use the calibration standards of the National Metrology Institute of Japan in lieu of the calibration standards of the U.S. National Institute of Standards and Technology to test its inspection and test equipment.

Grant, 03/26/2002, Exemption No. 7153A.

Docket No.: FAA-2002-11773.

Petitioner: Air Jamaica Limited.

Section of 14 CFR Affected: 14 CFR 145.57(b).

Description of Relief Sought/Disposition: To permit Air Jamaica to substitute the calibration standards of the Jamaica Bureau of Standards for the calibration standards of the U.S. National institute of Standards and Technology to test its inspection and test equipment.

Grant, 03/26/2002, Exemption No. 7152A.

Docket No.: FAA-2002-11844.

Petitioner: The Boeing Company.

Section of 14 CFR Affected: 14 CFR 25.561(b)(3)(ii).

Description of Relief Sought/Disposition: To allow the modification, certification, and re-delivery of Boeing Model 747 series airplanes using a reduced center of gravity of the occupant for passenger seats that is used in the determination of interface loads for the § 25.516(b)(3)(ii) loading condition.

Partial Grant, 03/18/2002, Exemption No. 7742.

[FR Doc. 02-7966 Filed 4-1-02; 8:45 am]

BILLING CODE 4410-13-M